NATIONAL SCIENCE FOUNDATION

Agency Information Collection Activities: Comment Request; Computer and Information Science and Engineering Research Experiences for Undergraduates Past Participant Survey

AGENCY: National Science Foundation.

ACTION: Submission for OMB Review; comment request.

SUMMARY: The National Science Foundation (NSF) has submitted the following information collection requirement to OMB for review and clearance under the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION: Title of Collection: CISE REU Past Participant Survey—2021 Impact of REU Participation on Career Pathways.

OMB Approval Number: 3145-NEW.

Type of Request: Intent to establish an information collection.

Abstract: Every year the National Science Foundation (NSF) funds hundreds of Research Experience for Undergraduates (REU) activities through its REU program. The Directorate of Computer and Information Science and Engineering (CISE) is seeking to evaluate the effectiveness of the CISE REU program.

REUs provide undergraduate students at U.S. higher education institutions to work with a faculty on a research project. They can take the form of REU Sites or REU Supplements. REU Sites are based on independent proposals to initiate and conduct projects that engage a number of students in research, and REU Supplements are included as a component of proposals for new or renewal NSF grants or cooperative agreements or may be requested for ongoing NSF-funded research projects.

By offering this opportunity to undergraduate students the REU program seeks to expand student participation in all kinds of research—both disciplinary and interdisciplinary—encompassing efforts by individual investigators, groups, centers, national facilities, and others. It draws on the integration of research and education to attract a diverse pool of talented students into careers in science and engineering, including teaching and education research related to science and engineering, and to help ensure that these students receive the best education possible.

The data collection intends to assess the impact of REU participation on career pathways and will be done through an online survey. The researchers will collect data from past participants including the students and the mentors with a separate survey customized for each group. The specific evaluation objectives are:

1. Identify the career trajectory of the REU participants since their participation in the REU program including degrees they received, institutions they attended, and their current status (e.g., employed, graduate students).

2. Document the structure of the REU experience that the respondents participated in. These may include the type of REU (e.g., Site, Supplement), location of REU, and timing of REU.

3. Describe the REU mentors' perceptions of the REU program on the student participants and the mentors' career development.

4. Examine the skills the participants gained and experiences they had during their REU participation. These may include technical skills, information on graduate school application process, and research training.

5. Analyze the relationships between REU participation and career pathways specifically focusing on whether these experiences are associated with the participants' interest in and ultimate selection of research careers in computing.

Ultimately, the findings from the analysis of this data collection will be used to improve the impact of CISE REU Program in order to better reach its goals of providing meaningful research opportunities to undergraduate students and, in doing so, attracting a broad range of students to computing/STEM careers.

Use of information: The information collected through this survey will be used to evaluate the NSF CISE REU Program.

Expected Respondents: The survey will be sent to students and mentors who participated in the NSF CISE REU Program through an REU Site or a Supplement. Further, in order to obtain data from an appropriate comparison group, the researchers will also include participants of other REUs and similar activities. The CISE REU Program participant list will be obtained from NSF and comparison group participants will be culled from a list of individuals previously surveyed by the researchers. The estimated number of individuals who will be receiving this survey is 25,000. Based on an approximate response rate of 30%, there will be an estimated 7,500 respondents when the data collection is completed.

Average time per respondent: The online survey is designed to be completed in 20 minutes or less.

Frequency: Each respondent will be asked to complete this survey once during late summer/early fall 2021.

Estimated burden on public: Based on 7,500 estimated responses and 20 minutes per respondent, the estimate for this data collection is 2,500 burden hours.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Dated: July 30, 2021.
Suzanne H. Plimpton,
Reports Clearance Officer, National Science Foundation.

[FR Doc. 2021-16638 Filed 8-3-21; 8:45 am]

BILLING CODE 7555-01-P